DEPARTMENT OF TRANSPORTATION

Surface Transportation Board

[STB Finance Docket No. 34274]

Illinois Central Railroad Company—Trackage Rights Exemption—Union Pacific Railroad Company

Union Pacific Railroad Company (UP), pursuant to a written trackage rights agreement to be entered into with Illinois Central Railroad Company (IC),¹ will grant nonexclusive overhead trackage rights to IC over UP's Salem Subdivision extending from milepost 242.85 at Kinmundy, IL, to milepost 252.96 at Salem, IL, a distance of approximately 10.11 miles.

¹ IC is a wholly owned subsidiary of Canadian National Railway Company.

The transaction was scheduled to be consummated no earlier than November 4, 2002, the effective date of the exemption (7 days after the exemption was filed).

The purpose of the trackage rights is to grant IC the right to use the trackage for overhead operation of freight trains between Kinmundy and Salem and for the interchange of carload traffic with UP at Salem.

As a condition to this exemption, any employees affected by the trackage rights will be protected by the conditions imposed in Norfolk and Western Ry. Co.—Trackage Rights—BN, 354 I.C.C. 605 (1978), as modified in Mendocino Coast Ry. Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34274, must be filed with the Surface Transportation Board, 1925 K Street, NW., Washington, DC 20423-0001. In addition, one copy of each pleading must be served on Michael J. Barron, Jr., 455 North Cityfront Plaza Drive, Chicago, IL 60611-5317.

Board decisions and notices are available on our Web site at ‘WWW.STB.DOT.GOV.’

Decided: November 8, 2002.
By the Board, David M. Konschnik, Director, Office of Proceedings.
Vernon A. Williams,
Secretary.

[FR Doc. 02-29081 Filed 11-14-02; 8:45 am]

BILLING CODE 4915-00-P